DEPARTMENT OF STATE

[Public Notice: 11225]

Notice of Shipping Coordination Committee Meeting in Preparation for International Maritime Organization Meeting

The Department of State will conduct a public meeting of the Shipping Coordination Committee at 10:00 a.m. on Thursday, November 12, 2020, by way of teleconference. Members of the public may participate up to the capacity of the teleconference phone line, which will handle 500 participants. To access the teleconference line, participants should call (202) 475-4000 and use Participant Code: 415 533 25#.

The primary purpose of the meeting is to prepare for the 75th session of the International Maritime Organization's (IMO) Marine Environment Protection Committee to be held remotely, November 16 to 20, 2020.

The agenda items to be considered include:

—Adoption of the agenda

—Decisions of other bodies

—Consideration and adoption of amendments to mandatory instruments

—Harmful aquatic organisms in ballast water

—Air pollution prevention

—Energy efficiency of ships

—Reduction of GHG emissions from ships

—Follow-up work emanating from the Action Plan to address marine plastic litter from ships

—Identification and protection of Special Areas, ECAs and PSSAs

—Pollution prevention and response

—Reports of other sub-committees

—Technical cooperation activities for the protection of the marine environment

—Capacity-building for the implementation of new measures

—Work programme of the Committee and subsidiary bodies

—Application of the Committees' Method of Work

—Any other business

—Consideration of the report of the Committee

Please note: The Committee may, on short notice, adjust the MEPC 75 agenda to accommodate the constraints associated with the virtual meeting format. Although no changes to the agenda are anticipated, if any are necessary they will be provided to those who RSVP.

Those who plan to participate may contact the meeting coordinator, LT Jessica Anderson, by email at Jessica.P.Anderson@uscg.mil, by phone at (202) 372-1376, or in writing at 2703 Martin Luther King Jr. Ave. SE, Stop 7509, Washington, DC 20593-7509.

Additional information regarding this and other IMO public meetings may be found at: https://www.dco.uscg.mil/IMO.

Jeremy M. Greenwood,
Coast Guard Liaison Officer, Office of Ocean and Polar Affairs, Department of State.

[FR Doc. 2020-22074 Filed 10-5-20; 8:45 am]

BILLING CODE 4710-09-P